FEDERAL COMMUNICATIONS COMMISSION

[DA 25-663; FR ID 309931]

Consumer Protection and Accessibility Advisory Committee; Announcement of Meeting

AGENCY: Federal Communications Commission.

ACTION: Notice.

SUMMARY: In this document, the Commission announces the first meeting of the current term of its Consumer Protection and Accessibility Advisory Committee (CPAAC or Committee).

DATES: Wednesday, September 10, 2025. The meeting will come to order at 9:00 a.m. Eastern Time.

ADDRESSES: The CPAAC meeting will be held in the Commission Meeting Room at Federal Communications Commission (FCC) Headquarters, located at 45 L Street NE, Washington, DC 20554.

FOR FURTHER INFORMATION CONTACT: David M. Pérez or Joshua Mendelsohn, Designated Federal Officers, Federal Communications Commission, via email: CPAAC@fcc.gov.

SUPPLEMENTARY INFORMATION: This meeting is open to members of the general public. The in-person meeting will have sign language interpreters and open captioning. The meeting will be webcast with sign language interpreters and open captioning at: www.fcc.gov/live. In addition, a reserved amount of time will be available on the agenda for comments and inquiries from the public. Members of the public will be able to provide comments either in person if they are attending the meeting or by sending their questions or comments to livequestions@fcc.gov. These comments or questions may be addressed during the public comment period.

Requests for other reasonable accommodations or for materials in accessible formats for people with disabilities should be submitted via email to: fcc504@fcc.gov or by calling the Consumer and Governmental Affairs Bureau at (202) 418-0530. Such requests should include a detailed description of the accommodation needed and a way for the FCC to contact the requester if more information is needed to fill the request. Requests should be made as early as possible; last minute requests will be accepted but may not be possible to accommodate.

Proposed Agenda: The Committee members will discuss (i) the roles and responsibilities of the Committee and its members; (ii) issues that the Committee will address; (iii) meeting schedules; and (iv) any other topics relevant to the CPAAC's work. The meeting agenda will be available at www.fcc.gov/cpaac and may be modified at the discretion of the CPAAC Co-Chairs and Designated Federal Officers.

Federal Communications Commission.
Suzanne Singleton,
Chief, Disability Rights Office, Consumer and Governmental Affairs Bureau.

[FR Doc. 2025-16342 Filed 8-25-25; 8:45 am]

BILLING CODE 6712-01-P